FEDERAL COMMUNICATIONS COMMISSION

[OMB 3060-XXXX; FR ID 101458]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before October 24, 2022. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: OMB Control Number: 3060-XXXX.

Title: Performance Evaluation of Numbering Administration Vendor(s).

Form Number: N/A.

Type of Review: New information collection.

Respondents: Business or other for-profit entities, Not-for-profit entities, and State, Local and Tribal Governments.

Number of Respondents and Responses: 6,161 respondents and 6,161 responses.

Estimated Time per Response: 0.25 hours.

Frequency of Response: Annual reporting requirement.

Obligation to Respond: Voluntary.

Total Annual Burden: 1,540 hours.

Total Annual Cost: No cost.

Privacy Impact Assessment: Personally identifiable information (PII) in the form of business contact information will be collected and maintained in accordance with the FCC-2, Business Contacts and Certifications, System of Records Notice (SORN), posted at https://www.fcc.gov/managing-director/privacy-transparency/privacy-act-information. There is no intention by the Numbering Administration Oversight Working Group (NAOWG), North American Numbering Council (NANC), or the Commission to make this business contact information publicly available.

Nature and Extent of Confidentiality: Participants must share their business contact information to respond to the survey. This information will be protected as described in the FCC-2, Business Contacts and Certifications SORN, posted at https://www.fcc.gov/managing-director/privacy-transparency/privacy-act-information. Participation in each survey is voluntary and any participant can decline to participate at any time.

Needs and Uses: The Commission is requesting Office of Management and Budget (OMB) approval for this new information collection. This collection of information is an annual performance satisfaction survey of its vendor(s) acting as administrators for various telephone number management functions. These functions may be performed by one or multiple vendors under one or multiple contracts. The vendor(s) act pursuant to their contract(s) with the Federal Communications Commission (FCC) and the FCC's numbering rules. See 47 CFR 52.1 et seq.

The survey will be designed and administered by the Numbering Administration Oversight Working Group (NAOWG) of the North American Numbering Council (NANC). The NANC is a Federal Advisory Committee established under the Federal Advisory Committee Act. The NANC advises the FCC and makes recommendations, reached through consensus, that foster efficient and impartial number administration. The NANC is composed of representatives of telecommunications carriers, regulators, cable providers, Voice Over internet Protocol (VoIP) providers, industry associations, vendors, and consumer advocates. Working groups, including the NAOWG, made up of industry experts, have been established by the NANC to assist in its efforts. The NANC charter can be found at https://docs.fcc.gov/public/attachments/DOC-375774A1.pdf.

The relevant contract(s) require that the Commission and/or its designee shall develop and conduct a performance survey for each administrator. The results of this consumer satisfaction survey will provide the FCC with indicators on how well the vendor(s) are acting as the North American Numbering Program Administrator (NANPA), Pooling Administrator (PA), Routing Number Administrator (RNA) and Reassigned Numbering Database Administrator (RNDA) is meeting its contractual obligations and accomplishing its mission as the NANPA/PA/RNA/RNDA.

Federal Communications Commission.
Marlene Dortch,
Secretary, Office of the Secretary.

[FR Doc. 2022-18149 Filed 8-22-22; 8:45 am]

BILLING CODE 6712-01-P